DEPARTMENT OF STATE

[Public Notice: 7885]

30-Day Notice of Proposed Information Collection: DS-260, Electronic Application for Immigration Visa and Alien Registration, 1405-0185

ACTION: Notice of request for public comment and submission to OMB of proposed collection of information.

SUMMARY: The Department of State has submitted the following information collection request to the Office of Management and Budget (OMB) for approval in accordance with the Paperwork Reduction Act of 1995.

• Title of Information Collection: Electronic Application for Immigration Visa and Alien Registration.

• OMB Control Number: 1405-0185.

• Type of Request: Extension.

• Originating Office: CA/VO/L/R.

• Form Number: DS-260.

• Respondents: Immigrant Visa Applicants.

• Estimated Number of Respondents: 700,000.

• Estimated Number of Responses: 700,000.

• Average Hours per Response: 2 hours.

• Total Estimated Burden: 1,400,000.

• Frequency: Once per Respondent.

• Obligation to Respond: Required to Obtain Benefits.

DATES: Submit comments to the Office of Management and Budget (OMB) for up to 30 days from May 16, 2012.

ADDRESSES: Direct comments to the Department of State, Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Sydney Taylor, Visa Services, Department of State, 2401 E Street NW., L-603, Washington, DC 20522, at (202) 663-3721.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:

Form DS-260 will be used to elicit information to determine the eligibility of aliens applying for immigrant visas.

Methodology:

The DS-260 will be submitted electronically to the Department via the Internet. The applicant will be instructed to print a confirmation page containing a 2-D bar code record locator, which will be scanned at the time of adjudication. Applicants who submit the electronic application will no longer submit paper-based applications to the Department.

Dated: May 4, 2012.
David T. Donahue,
Deputy Assistant Secretary, Bureau of Consular Affairs, Department of State.

[FR Doc. 2012-11861 Filed 5-15-12; 8:45 am]

BILLING CODE 4710-06-P